DEPARTMENT OF ENERGY

Federal Energy Regulatory Commission

[Project No. 2392-041]

Ampersand Gilman Hydro, LP; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2392-041.

c. Date filed: March 29, 2022.

d. Applicant: Ampersand Gilman Hydro, LP.

e. Name of Project: Gilman Hydroelectric Project.

f. Location: The project is located on the Connecticut River and straddles the Village of Gilman, within the Town of Lunenburg, Essex County, Vermont, and the Town of Dalton, Coos County, New Hampshire. The project does not occupy any federal or tribal lands.

g. Filed Pursuant to: Federal Power Act 16 U.S.C. 791(a)-825(r).

h. Applicant Contact: Mr. Sayad Moudachirou, Licensing Manager, 717 Atlantic Avenue, Suite 1A, Boston, MA 02111; phone: (617) 933-7206 or email: sayad@ampersandenergy.com.

i. FERC Contact: Ousmane Sidibe, phone: (202) 502-6245 or email: ousmane.sidibe@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 31, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Gilman Hydroelectric Project (P-2392-041).

m. The application is not ready for environmental analysis at this time.

n. The Gilman Hydroelectric Project consists of: (1) A 324.5-foot-wide concrete dam with a crest elevation of 826.8 feet spanning the river's width with a 5-foot-high, 108-foot-long rubber bladder and a 6.5-foot-high, 109-foot-long rubber bladder surmounted on two overflow spillways measuring 112.9 feet and 113 feet in width and an 18-foot-high, 27-foot-wide hydraulically operated crestgate; (2) a downstream fish passage system; (3) a 130-acre impoundment at a normal maximum surface elevation of 833.3 feet (USGS); (4) a steel- and timber-framed powerhouse with an integral water intake draft tube containing four generating turbine units with a total installed capacity of 4.95 megawatts located at the Vermont side of the dam; (5) a 242-foot-long, 23.75-foot-wide trash rack with approximately 2-inch spacing; (6) a 200-foot-long transmission line connecting the 34.5 kilovolt-ampere transformer to National Grid's switchyard; and (7) appurtenant facilities.

Ampersand Gilman Hydro, LP proposes to continue to operate the project in a run-of-river mode with no storage or flood control capacity. In accordance with Condition A of the Vermont Department of Environmental Conservation's water quality certification issued for the project, the project adheres to the following downstream minimum flow release requirements: (1) From June 1 through October 15, when river flows are less than 1,000 cubic feet per second (cfs), pass a minimum flow of 210 cfs over the crestgate; (2) provide a minimum flow of 757 cfs during operational issues or refilling of the impoundment; and (3) for faster impoundment refill based on consultation with the U.S. Fish and Wildlife Service and other agencies, a minimum flow of no less than 300 cfs to protect the dwarf wedge mussel until normal operations are restored. The project can operate in most of the extreme conditions of the Connecticut River and generate electricity from flows of 130 cfs up to high flood conditions of 35,000 cfs. The estimated average annual generation of the project from 2008 to 2018 is 25,000 megawatt-hours.

o. A copy of the application can be viewed on the Commission's website at http://www.ferc.gov using the “eLibrary” link. Enter the docket number, excluding the last three digits in the docket number field, to access the document (P-2392). For assistance, contact FERC Online Support at FERCOnlineSupport@ferc.gov, or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—June 2022

Request Additional Information (if necessary)—June 2022

Issue Acceptance Letter and Notice—August 2022

Issue Scoping Document 1 for comments—September 2022

Issue Scoping Document 2 (if necessary)—November 2022

Issue Notice of Ready for Environmental Analysis—December 2022

Final amendments to the application must be filed with the Commission no later than 30 days from the issuance date of the notice of ready for environmental analysis.

Dated: April 12, 2022.
Debbie-Anne A. Reese,
Deputy Secretary.

[FR Doc. 2022-08242 Filed 4-15-22; 8:45 am]

BILLING CODE 6717-01-P